DEPARTMENT OF COMMERCE

National Oceanic and Atmospheric Administration

Agency Information Collection Activities; Submission to the Office of Management and Budget (OMB) for Review and Approval; Comment Request; Vessel Monitoring System Requirements for the Pacific Islands Fisheries

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 1, 2023, during a 60-day comment period. This notice allows for an additional 30 days for public comments.

Agency: National Oceanic & Atmospheric Administration (NOAA), Commerce.

Title: Vessel Monitoring System Requirements for the Pacific Islands Fisheries.

OMB Control Number: 0648-0441.

Form Number(s): None.

Type of Request: Regular submission. Extension of a current information collection.

Number of Respondents: 69.

Average Hours per Response: 4 hours for installation of a VMS unit; 2 hours for VMS unit replacement, and 1.5 hours for annual maintenance.

Total Annual Burden Hours: 131.

Needs and Uses: This request is for extension of a currently approved information collection. National Oceanic and Atmospheric Administration (NOAA) Fisheries, Pacific Islands Region, and the NOAA Office of Law Enforcement (OLE), Pacific Islands Division, collect vessel tracking information through a Vessel Monitoring System (VMS). The authority for this collection is specified at 50 CFR 665.19.

As part of fishery ecosystem plans developed under the authority of the Magnuson-Stevens Fishery Conservation and Management Act, owners of commercial fishing vessels in the Hawaii pelagic longline fishery, American Samoa pelagic longline fishery (only vessels longer than 50 feet), Northwestern Hawaiian Islands lobster fishery (currently inactive), and Northern Mariana Islands bottomfish fishery (only vessels longer than 40 feet) must allow NOAA to install VMS units on their vessels when directed by OLE personnel. VMS units automatically send periodic reports on the position of the vessel to OLE. NOAA uses the reports to monitor the vessel's location and activities, primarily to enforce regulated fishing areas. NOAA pays for all costs related to the VMS systems for the aforementioned fisheries. There is no public burden for the automatic messaging; however, VMS installation and maintenance are considered public burden. Aside from updates to the burden estimates, there are no changes to the collection.

Affected Public: Business or other for-profit organizations; individuals or households.

Frequency: On occasion.

Respondent's Obligation: Mandatory

Legal Authority: 50 CFR 665.19

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0441.

Sheleen Dumas,
Department PRA Clearance Officer, Office of the Under Secretary for Economic Affairs, Commerce Department.

[FR Doc. 2024-00579 Filed 1-11-24; 8:45 am]

BILLING CODE 3510-22-P